NATIONAL SCIENCE FOUNDATION

National Science Board; Sunshine Act Meetings; Notice

The National Science Board, pursuant to NSF regulations (45 CFR part 614), the National Science Foundation Act, as amended (42 U.S.C. 1862n-5), and the Government in the Sunshine Act (5 U.S.C. 552b), hereby gives notice in regard to the scheduling of meetings for the transaction of National Science Board business and other matters specified, as follows:

Agency Holding Meeting: National Science Board.

Date and Time: Monday, August 6, 2007, at 1:30 p.m.; Tuesday, August 7, 2007 at 8 a.m.; and Wednesday, August 8, 2007 at 7:45 a.m.

Place: National Science Foundation, 4201 Wilson Blvd., Room 1235, Arlington, VA 22230. All visitors must report to the NSF visitor desk at the 9th and N. Stuart Streets entrance to receive a visitor's badge.

Status: Some portions open, some portions closed.

Open Sessions

August 7, 2007

8 a.m.-9 a.m.

9 a.m.-11 a.m.

11 a.m.-11:30 a.m.

11:30 a.m.-12:15 p.m.

2 p.m.-2:45 p.m.

2:45 p.m.-4:45 p.m.

August 8, 2007

7:45 a.m.-8 a.m.

8 a.m.-9 a.m.

9:30 a.m.-11:30 a.m.

1:45 p.m.-3 p.m.

Closed Sessions

August 6, 2007

1:30 p.m.-5 p.m.

August 7, 2007

1:45 p.m.-2 p.m.

4:45 p.m.-5:15 p.m.

August 8, 2007

9 a.m.-9:30 p.m.

12:30 p.m.-1 p.m.

1 p.m.-1:45 p.m.

Agency Contact: Dr. Robert E. Webber, rwebber@nsf.gov, (703) 292-7000, http://www.nsf.gov/nsb/.

Matters To Be Discussed:

Monday, August 6, 2007

Committee on Programs and Plans

Closed Session (1:30 a.m.-5 p.m.)

• NSB Information Item: Portfolio of proposed High-Performance Computing (HPC) awards.

• NSB Action Item: HPC Track 1: Petascale.

• NSB Action Item: HPC Track 2: Path to Petascale.

• HPCOPS Overview: High-Performance Computing for Science and Engineering Research & Education: Operations (User Support, System Administration and Maintenance) (HPCOPS).

• NSB Action Item: HPCOPS Awards.

• NSB Action Item: National High Magnetic Field Laboratory (NHMFL).

• NSB Action Item: Advanced Technology Solar Telescope (ATST).

Tuesday, August 7, 2007

CPP Subcommittee on Polar Issues

Open Session (8 a.m.-9 a.m.)

• Approval of May Minutes.

• SOPI Chairman's Remarks.

• OPP Director's Report.

• IceCube Neutrino Observatory.

• International Polar Year Update.

EHR Subcommittee on Science and Engineering Indicators

Open Session (9 a.m.-11 a.m.)

• Approval of May minutes.

• Subcommittee Chairman's remarks.

• Discussion of Orange Book.

• Discussion of draft Overview Chapter.

• Science and Engineering Indicators 2008 cover.

• Science and Engineering Indicators 2008 Digest.

• Science and Engineering Indicators 2008 Companion Piece.

• Subcommittee Chairman's summary.

CPP Task Force on International Science

Open Session (11 a.m.-11:30 a.m.)

• Approval of Minutes.

• Task Force Chairman Remarks.

• Discussion of the draft Task Force report on international science and engineering partnerships.

CPP Task Force on Transformative Research

Open Session (11:30 a.m.-12:15 p.m.)

• Approval of Minutes for March 2007 Meeting.

• Task Force Chairman's Remarks.

• Review of Transformative Research Initiative developed by NSF as recommended in the report, Enhancing Support of Transformative Research at the National Science Foundation.

Committee on Audit and Oversight

Closed Session (1:45 p.m.-2 p.m.)

• OIG FY 2009 Budget.

• Pending Investigations.

Open Session (2 p.m.-2:45 p.m.)

• Approval of Minutes of May 14, 2007 Meeting.

• Committee Chairman's Opening Remarks.

• FY 2007 Financial Statement Audit Status.

• Chief Financial Officer's Update.

• Committee Chairman's Closing Remarks.

Committee on Programs and Plans

Open Session (2:45 p.m.-4:45 p.m.)

• Approval of May 8, 2007 CPP Minutes.

• Committee Chairman's Remarks.

• Status Reports:

○ Subcommittee on Polar Issues.

○ Task Force on International Science: Draft Report and Recommendations.

○ Task Force on Transformative Research.

• Discussion Item: Future Plans for the ad hoc Task Group on Sustainable Energy.

• Discussion Item: NSB/DRB Thresholds.

• Discussion Item: NSB Policy on Recompetition of NSF Awards.

• Discussion Item: Facilities Operations and Management.

• Discussion Item: Major Research Facilities and Facility Plan.

• NSB Item: Examination of Priority Order of MREFC New Starts.

• Committee Chairman's Remarks.

ad hoc Committee on Nominations for NSB Class of 2008-2014

Closed Session (4:45 p.m.-5:15 p.m.)

• Approval of Minutes, Teleconference July 19, 2007.

• Approval of Minutes, Teleconference July 26, 2007.

• Committee Chairman's Remarks.

• Review of Candidates.

• Preparation of Final Slate of Candidates for Board Approval.

Wednesday, August 8, 2007

Executive Committee

Open Session (7:45 a.m.-8 a.m.)

• Approval of Minutes for May 2007.

• Executive Committee Chairman's Remarks.

• Updates or New Business from Committee Members.

Committee on Strategy and Budget

Open Session (8 a.m.-9 a.m.)

• Approval of CSB Minutes, May 15, 2007.

• Committee Chairman's Remarks.

• Report of the NSF Working Group on the Impact of Proposal and Award Management Mechanisms (IPAMM).

• Discussion of CSB ad hoc Task Group on Cost-Sharing.

• Status of NSF Budget Request and Congressional Testimony.

Closed Session (9 a.m.-9:30 a.m.)

• Approval of CSB Teleconference Minutes, June 18, 2007.

• Approval of CSB Teleconference Minutes, July 23, 2007.

• Discussion of FY 2009 Board Budget Request.

• Discussion of FY 2009 NSF Budget Request.

Committee on Education and Human Resources

Open Session (9:30 a.m.-11:30 a.m.)

• Approval of May 2007 Minutes.

• Committee Chairman's Remarks.

• Report on Education Commission of the States 2007 National Forum on Education Policy.

• Report of Subcommittee on Science and Engineering Indicators.

• Discussion of Summary Recommendations from Engineering Education Workshops.

• Discussion of Draft Action Plan for STEM Education.

• NSB Executive Officer's Report.

Plenary Executive Closed

Closed Session (12:30 p.m.-1 p.m.)

• Approval of May 2007 Minutes.

• Potential Board Member Nominees.

• Candidate Sites for Retreat and Visit 2008.

Plenary Closed

Closed Session (1 p.m.-1:45 p.m.)

• Approval of May 2007 Minutes.

• Awards and Agreements.

• Closed Committee Reports.

Plenary Open

Open Session (1:45 p.m.-3 p.m.)

• Approval of May 2007 Minutes.

• Resolution to Close October 2007 Meeting.

• Chairman's Report.

• Director's Report.

• Open Committee Reports.

• STEM Education Action Plan.

Michael P. Crosby,
Executive Officer and Board Office Direc.

[FR Doc. E7-14980 Filed 7-31-07; 8:45 am]

BILLING CODE 7555-01-P